DEPARTMENT OF ENERGY

Notice of Orders Issued Under Section 3 of the Natural Gas Act During September 2020

| FE docket Nos.
EVERSOURCE GAS COMPANY OF MASSACHUSETTS | 20-97-NG
TRANSCANADA PIPELINES LIMITED | 20-81-NG
CIMA ENERGY, LP | 20-89-NG
VISTA ENERGY MARKETING, L.P | 20-84-NG
MERRILL LYNCH COMMODITIES, INC | 20-86-NG
ATLANTIC POWER ENERGY SERVICES (U.S.) LLC | 20-85-NG
ALLIANCE PIPELINE L.P | 20-87-NG
ENHANCED ENERGY SERVICES OF AMERICA, LLC | 20-88-NG
CLEANCOR ENERGY SOLUTIONS LLC | 20-89-LNG
STABILIS GDS, INC | 20-83-LNG
BOISE WHITE PAPER L.L.C | 20-90-NG
ALBERTA NORTHEAST GAS LIMITED | 20-92-NG
PETROCHINA INTERNATIONAL (AMERICA), INC | 20-91-NG
NORTHEAST GAS MARKETS, LLC | 20-93-NG
DTE GAS COMPANY | 20-94-NG
SIERRA PRODUCTION COMPANY | 20-96-NG
UNITED STATES GYPSUM COMPANY | 20-100-NG
ABAG PUBLICLY OWNED ENERGY RESOURCES | 20-101-NG
PUGET SOUND ENERGY, INC | 20-106-LNG
MIECO LLC | 20-104-NG; 19-32-NG
NS POWER ENERGY MARKETING INC | 20-105-NG
CENTRAL HUDSON GAS & ELECTRIC CORPORATION | 20-108-NG
NORTHERN UTILITIES, INC | 20-109-NG
YANKEE GAS SERVICES COMPANY | 20-110-NG
LIBERTY UTILITIES (ENERGYNORTH NATURAL GAS) CORP. d/b/a LIBERTY UTILITIES | 20-111-NG
SEQUENT ENERGY MANAGEMENT, L.P | 20-119-NG
THE SOUTHERN CONNECTICUT GAS COMPANY | 20-112-NG
SABINE PASS LIQUEFACTION, LLC | 20-114-LNG
CONNECTICUT NATURAL GAS CORPORATION | 20-113-NG
ENERGY PLUS NATURAL GAS LLC | 20-121-NG
NATURGY APROVISIONAMIENTOS S.A | 20-116-LNG

AGENCY: Office of Fossil Energy, Department of Energy.

ACTION: Notice of orders.

SUMMARY: The Office of Fossil Energy (FE) of the Department of Energy gives notice that during September 2020, it issued orders granting authority to import and export natural gas, to import and export liquefied natural gas (LNG), and vacating prior authorization. These orders are summarized in the attached appendix and may be found on the FE website at https://www.energy.gov/fe/listing-doefe-authorizationsorders-issued-2020. They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on November 4, 2020.
Amy Sweeney,
Director, Office of Regulation, Analysis, and Engagement, Office of Oil and Natural Gas.

Appendix

DOE/FE Orders Granting Import/Export Authorizations
4572 | 09/01/20 | 20-97-NG | Eversource Gas Company of Massachusetts | Order 4572 granting blanket authority to import/export natural gas from/to Canada.
4573 | 09/01/20 | 20-81-NG | TransCanada PipeLines Limited | Order 4573 granting blanket authority to import/export natural gas from/to Canada.
4574 | 09/01/20 | 20-98-NG | CIMA Energy, LP | Order 4574 granting blanket authority to import/export natural gas from/to Canada/Mexico.
4575 | 09/01/20 | 20-84-NG | Vista Energy Marketing, L.P | Order 4575 granting blanket authority to import natural gas from Canada.
4576 | 09/01/20 | 20-86-NG | Merrill Lynch Commodities, Inc | Order 4576 granting blanket authority to import/export natural gas from/to Canada/Mexico.
4577 | 09/04/20 | 20-85-NG | Atlantic Power Energy Services (US) LLC | Order 4577 granting blanket authority to import/export natural gas from/to Canada.
4578 | 09/04/20 | 20-87-NG | Alliance Pipeline L.P | Order 4578 granting blanket authority to import natural gas from Canada.
4579 | 09/04/20 | 20-88-NG | Enhanced Energy Services of America, LLC | Order 4579 granting blanket authority to import natural gas from Canada.
4580 | 09/04/20 | 20-89-LNG | CLEANCOR Energy Solutions LLC | Order 4580 granting blanket authority to export LNG to Canada/Mexico by vessel/truck.
4581 | 09/11/20 | 20-83-LNG | Stabilis GDS, Inc | Order 4581 granting blanket authority to import/export LNG from/to Canada/Mexico by truck.
4582 | 09/04/20 | 20-90-NG | Boise White Paper L.L.C | Order 4582 granting blanket authority to import natural gas from Canada.
4583 | 09/04/20 | 20-92-NG | Alberta Northeast Gas Limited | Order 4583 granting blanket authority to import/export natural gas from/to Canada.
4584 | 09/04/20 | 20-91-NG | PetroChina International (America), Inc | Order 4584 granting blanket authority to import/export natural gas from/to Canada/Mexico, to import LNG from various international sources by vessel, and to export LNG to Canada/Mexico by vessel.
4585 | 09/04/20 | 20-93-NG | Northeast Gas Markets, LLC | Order 4585 granting blanket authority to import/export natural gas from/to Canada.
4586 | 09/04/20 | 20-94-NG | DTE Gas Company | Order 4586 granting blanket authority to import/export natural gas from/to Canada.
4587 | 09/04/20 | 20-96-NG | Sierra Production Company | Order 4587 granting blanket authority to import natural gas from Canada.
4589 | 09/04/20 | 20-100-NG | United States Gypsum Company | Order 4589 granting blanket authority to import natural gas from Canada.
4590 | 09/04/20 | 20-101-NG | ABAG Publicly Owned Energy Resources | Order 4590 granting blanket authority to import natural gas from Canada.
4591 | 09/04/20 | 20-106-LNG | Puget Sound Energy, Inc | Order 4591 granting blanket authority to import LNG from Canada by truck.
4592; 4361-A | 09/11/20 | 20-104-NG; 19-32-NG | Mieco LLC | Order 4592 granting blanket authority to import/export natural gas from/to Canada, and vacating prior authority (Order 4361).
4593 | 09/11/20 | 20-105-NG | NS Power Energy Marketing Inc | Order 4593 granting blanket authority to import/export natural gas from/to Canada.
4594 | 09/23/20 | 20-108-NG | Central Hudson Gas & Electric Corporation | Order 4594 granting blanket authority to import/export natural gas from/to Canada.
4595 | 09/23/20 | 20-109-NG | Northern Utilities, Inc | Order 4595 granting blanket authority to import/export natural gas from/to Canada.
4596 | 09/24/20 | 20-110-NG | Yankee Gas Services Company | Order 4596 granting blanket authority to import/export natural gas from/to Canada.
4597 | 09/23/20 | 20-111-NG | Liberty Utilities (EnergyNorth Natural Gas) Corp. d/b/a Liberty Utilities | Order 4597 granting blanket authority to import/export natural gas from/to Canada.
4598 | 09/23/20 | 20-119-NG | Sequent Energy Management, L.P | Order 4598 granting blanket authority to import/export natural gas from/to Mexico.
4599 | 09/23/20 | 20-112-NG | The Southern Connecticut Gas Company | Order 4599 granting blanket authority to import/export natural gas from/to Canada.
4600 | 09/23/20 | 20-114-LNG | Sabine Pass Liquefaction, LLC | Order 4600 granting blanket authority to import LNG from various international sources by vessel.
4601 | 09/23/20 | 20-113-NG | Connecticut Natural Gas Corporation | Order 4601 granting blanket authority to import/export natural gas from/to Canada.
4602 | 09/23/20 | 20-121-NG | Energy Plus Natural Gas LLC | Order 4602 granting blanket authority to import/export natural gas from/to Canada.
4603 | 09/24/20 | 20-116-LNG | Naturgy Aprovisionamientos S.A | Order 4603 granting blanket authority to import LNG from various international sources by vessel.

[FR Doc. 2020-24820 Filed 11-6-20; 8:45 am]

BILLING CODE 6450-01-P